DEPARTMENT OF THE TREASURY

Departmental Offices; Notice of Availability of the Treasury Department's Annual Reports on Alternative Fuel Vehicle Acquisitions

AGENCY: Departmental Offices, Treasury.

ACTION: Notice.

SUMMARY: This notice advises the public how it may access the Treasury Department's annual reports on alternative fuel vehicle acquisitions for FY 1999-2001.

FOR FURTHER INFORMATION CONTACT: Carolyn Austin-Diggs, Director, Office of Asset Management, 202-622-0500 (not a toll-free call).

SUPPLEMENTARY INFORMATION: In accordance with section 8 of the Energy Policy Act, Pub. L. 105-388, as amended (42 U.S.C. 13218), the Department of the Treasury gives notice that the Department's annual reports on alternative fuel vehicle acquisitions for FY 1999-2001 are available at the following website: http://www.treas.gov/offices/management/asset-management/personal-property/fleet-and-aviation.

Dated: January 24, 2003.
Timothy L. Weatherford,
Acting Deputy Assistant Secretary of the Treasury.

[FR Doc. 03-2182 Filed 1-29-03; 8:45 am]

BILLING CODE 4810-25-P